COMMITTEE FOR PURCHASE FROM PEOPLE WHO ARE BLIND OR SEVERELY DISABLED

Procurement List; Additions and Deletions

AGENCY: Committee for Purchase From People Who Are Blind or Severely Disabled.

ACTION: Additions to and Deletions from Procurement List.

SUMMARY: This action adds to the Procurement List services to be furnished by nonprofit agencies employing persons who are blind or have other severe disabilities, and deletes from the Procurement List services previously furnished by such agencies.

DATES: Effective Date: June 18, 2006.

ADDRESSES: Committee for Purchase From People Who Are Blind or Severely Disabled, Jefferson Plaza 2, Suite 10800, 1421 Jefferson Davis Highway, Arlington, Virginia 22202-3259.

FOR FURTHER INFORMATION CONTACT: Mary-Carolyn Bell, Telephone: (703) 603-7740, Fax: (703) 603-0655, or e-mail mbell@jwod.gov.

SUPPLEMENTARY INFORMATION:

Additions

On March 10, March 17, and March 24, 2006, the Committee for Purchase From People Who Are Blind or Severely Disabled published notice (71 FR 12338, 13810, and 14833) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, 5A NYC Terminal Market, USDA, AMS F&V Division, Bronx, New York.

NPA: The Corporate Source, Inc., New York, New York.

Contracting Activity: USDA, Animal & Plant Health Inspection Service-PFQ, Minneapolis, MN.

Service Type/Location: Custodial Services, DHS—Customs & Border Protection, 5401 Coffee Drive, New Orleans, Louisiana.

NPA: Goodworks, Inc., New Orleans, Louisiana.

Contracting Activity: DHS—Customs & Border Protection, Indianapolis, Indiana.

Service Type/Location: Document Destruction, Internal Revenue Service, NISH, Vienna, VA (PRIME CONTRACTOR); performance to be allocated to the Nonprofit Agencies identified at the following locations: 2945 Rodeo Park Drive, East, Santa Fe, New Mexico.

NPA: Adelante Development Center, Inc., Albuquerque, New Nexico; 330 N. Brand Boulevard, Glendale, California; 6377 Riverside Avenue, #110, Riverside, California.

NPA: Goodwill Industries of Southern California, Los Angeles, California.

Contracting Activity: U.S. Treasury, IRS, San Francisco, California.

Service Type/Location: Facilities Maintenance Services, Center for Investigative Services, 1137 Branchton Road, Boyers, Pennsylvania.

NPA: Goodwill Commercial Services, Inc., Pittsburgh, Pennsylvania.

Contracting Activity: Office of Personnel Management, Washington, DC.

Deletions

On March 24, 2006, the Committee for Purchase From People Who Are Blind or Severely Disabled published notice (71 FR 14833) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Base Supply Center, Roosevelt Roads Naval Station, Building 1207, Ceiba, Puerto Rico.

NPA: Winston-Salem Industries for the Blind, Winston-Salem, North Carolina.

Contracting Activity: Department of the Navy.

Service Type/Location: Office Supply Center, Richard Bolling Federal Building, 601 East 12th Street, Kansas City, Missouri.

NPA: Alphapointe Association for the Blind, Kansas City, Missouri.

Contracting Activity: U.S. Army Corps of Engineers, Kansas City, Missouri.

Service Type/Location: Office Supply Store, Defense Supply Service—Washington, Army Material Command, Alexandria, Virginia.

NPA: Virginia Industries for the Blind, Charlottesville, Virginia.

Contracting Activity: Defense Supply Service, Washington DC.

Service Type/Location: Office Supply Store, Department of Energy, 80300 Century Blvd, Germantown, Maryland.

NPA: Winston-Salem Industries for the Blind, Winston-Salem, North Carolina.

Contracting Activity: Department of Energy, Washington, DC.

Service Type/Location: Office Supply Store, Department of Housing and Urban Development, Robert A. Young Building, 1222 Spruce Street, St. Louis, Missouri.

NPA: Alphapointe Association for the Blind, Kansas City, Missouri.

Contracting Activity: U.S. Department of Housing and Urban Development, St. Louis, Missouri.

Patrick Rowe,
Deputy Executive Director.

[FR Doc. E6-7629 Filed 5-18-06; 8:45 am]

BILLING CODE 6353-01-P